COMMITTEE FOR PURCHASE FROM PEOPLE WHO ARE BLIND OR SEVERELY DISABLED

Procurement List; Proposed Additions

AGENCY: Committee for Purchase from People Who are Blind or Severely Disabled.

ACTION: Proposed additions to the procurement list.

SUMMARY: The Committee is proposing to add product and service to the Procurement List that will be furnished by nonprofit agencies employing persons who are blind or have other severe disabilities.

DATES: Comments must be received on or before 2/2/2015.

ADDRESSES: Committee for Purchase From People Who Are Blind or Severely Disabled, 1401 S. Clark Street, Suite 10800, Arlington, Virginia 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSN: MR 1078—Broom, Corn Whisk.

NPA: Alphapointe, Kansas City, MO.

Contracting Activity: Navy Exchange Service Command (NEXCOM), Virginia Beach, VA.

Coverage: C-List for the requirements of Navy Exchanges as aggregated by the Navy Exchange Service Command (NEXCOM), Virginia Beach, VA.

Service

Service Type/Location: Janitorial Service, GSA PBS Region 5, Enterprise Computing Center, 985 Michigan Avenue, Detroit, MI.

NPA: Jewish Vocational Service and Community Workshop, Southfield, MI

Contracting Activity: General Services Administration, Public Buildings Service, Acquisition Management Division, Dearborn, MI.

Barry S. Lineback,
Director, Business Operations.

[FR Doc. 2014-30746 Filed 12-31-14; 8:45 am]

BILLING CODE 6353-01-P